ENVIRONMENTAL PROTECTION AGENCY

[EPA-HQ-OPP-2024-0438; FRL-12231-01-OCSPP]

Draft Pesticide Registration Notice; Establishment of a Plan To Track the Adoption of Bilingual Labeling on End Use Pesticide Product Labels; Notice of Availability and Request for Comment

AGENCY: Environmental Protection Agency (EPA).

ACTION: Notice.

SUMMARY: The Environmental Protection Agency (EPA or Agency) is announcing the availability of and seeking public comment on a draft Pesticide Registration Notice (PR Notice) entitled “Establishment of a Plan to Track the Adoption of Bilingual Labeling on End Use Pesticide Product Labels.” PR Notices are issued by the Office of Pesticide Programs (OPP) to inform pesticide registrants and other interested persons about important policies, procedures, and registration related decisions, and serve to provide guidance to pesticide registrants and OPP personnel. The Pesticide Registration Improvement Act of 2022 (PRIA 5) requires EPA to “develop and implement, and make publicly available, a plan for tracking the adoption of the bilingual labeling.” This draft PR Notice provides guidance on how the Agency plans to track the adoption of bilingual labeling.

DATES: Comments must be received on or before February 3, 2025.

ADDRESSES: Submit your comments, identified by docket identification (ID) number EPA-HQ-OPP-2024-0438, through the https://www.regulations.gov. Follow the online instructions for submitting comments. Do not submit electronically any information you consider to be CBI or other information whose disclosure is restricted by statute. Additional instructions on commenting or visiting the docket, along with more information about dockets generally, is available at https://www.epa.gov/dockets.

FOR FURTHER INFORMATION CONTACT: Susan Bartow, Office of Chemical Safety and Pollution Prevention (7508M), Environmental Protection Agency, 1200 Pennsylvania Ave. NW, Washington, DC 20460-0001; telephone number: (202) 566-2280; email address: OPPbilinguallabels@epa.gov.

SUPPLEMENTARY INFORMATION:

I. Does this action apply to me?

This action is directed to the general public and may be of specific interest to persons or entities that register pesticide products. Since a potentially broad range of entities may be interested in this action, the Agency has not attempted to describe all the specific entities that may be interested. If you have any questions regarding the applicability of this guidance to a particular entity or registration action, contact the person listed under FURTHER INFORMATION CONTACT.

II. What is the Agency's authority for taking this action?

EPA is issuing this guidance pursuant to its authority under PRIA 5 which requires the Agency to develop, implement, and make publicly available, a plan for tracking the adoption of bilingual labeling by December 29, 2024.

III. What action is the Agency taking?

EPA is announcing the availability of and seeking public comment on a draft PR Notice entitled “Establishment of a Plan to Track the Adoption of Bilingual Labeling on End Use Pesticide Product Labels.” PR Notices are issued by the Office of Pesticide Programs (OPP) to inform pesticide registrants and other interested persons about important policies, procedures, and registration related decisions, and serve to provide guidance to pesticide registrants and OPP personnel. The Pesticide Registration Improvement Act of 2022 (PRIA 5) requires EPA to “develop and implement, and make publicly available, a plan for tracking the adoption of the bilingual labeling.” Currently, bilingual labeling is implemented through a non-notification process (see PR Notice 98-10, entitled “Notifications, Non-Notifications and Minor Formulation Amendments” dated October 22, 1998). The non-notification process means that a product label may be updated with Spanish translations without notifying EPA (or EPA reviewing the label), if that is the only change being made to the label. Non-notification label changes are not systematically tracked by EPA. However, given the new bilingual labeling requirements in PRIA 5, EPA has developed a plan for tracking the adoption of the bilingual labeling. The draft PR Notice provides guidance on how the Agency plans to track the adoption of bilingual labeling. Since Spanish is the primary language for most American farmworkers, this effort advances environmental justice by making health and safety information on pesticide labels more accessible, fostering a better understanding and compliance with label instructions.

IV. Do PR Notices contain binding requirements?

The draft PR Notice discussed in this document is intended to provide guidance to EPA personnel and decision makers and to pesticide registrants. While the requirements in the statutes and Agency regulations are binding on EPA and the applicants, the PR Notice is not binding on either EPA or pesticide registrants, and EPA may depart from the guidance where circumstances warrant and without prior notice. Likewise, pesticide registrants may assert that the guidance is not appropriate generally or not applicable to a specific pesticide or situation.

V. Are these forms approved under the Paperwork Reduction Act (PRA)?

According to the PRA, 44 U.S.C. 3501 et seq., an agency may not conduct or sponsor, and a person is not required to respond to a collection of information that requires approval under the PRA, unless it has been approved by the Office of Management and Budget (OMB) and displays a currently valid OMB control number. The information collection activities described in this draft PR Notice are being addressed in the new Information Collection Requests (ICR) entitled “Pesticide Product, Spanish Labeling Tracking,” identified as EPA ICR No. 7795.01, that will be made available for public review and comment in a forthcoming edition of the Federal Register. EPA intends to consider public comments on that ICR, along with comments on the draft PR Notice, before submitting a revised ICR to OMB for review and approval under the PRA, and issuing a final PR Notice.

Authority: 7 U.S.C. 136 et seq.

Dated: December 26, 2024.
Michal Freedhoff,
Assistant Administrator, Office of Chemical Safety and Pollution Prevention.

[FR Doc. 2024-31469 Filed 12-31-24; 8:45 am]

BILLING CODE 6560-50-P